ENVIRONMENTAL PROTECTION AGENCY

[OPP-2004-0096; FRL-7351-7]

The Association of American Pesticide Control Officials/State FIFRA Issues Research and Evaluation Group; Working Committee on Water Quality and Pesticide Disposal; Notice of Public Meeting

AGENCY: Environmental Protection Agency (EPA).

ACTION: Notice.

SUMMARY: The Association of American Pesticide Control Officials (AAPCO)/State FIFRA Issues Research and Evaluation Group (SFIREG); Working Committee on Water Quality and Pesticide Disposal (WC/WQPD), will hold a 2-day meeting, beginning on April 26, 2004, and ending April 27, 2004. This notice announces the location and times for the meeting and sets forth the tentative agenda topics.

DATES: The meeting will be held on Monday, April 26, 2004, from 8:30 a.m. to 5 p.m., and on Tuesday, April 27, 2004, from 8:30 a.m. to noon.

ADDRESSES: The meeting will be held at the Doubletree Hotel, 300 Army Navy Drive, Arlington, VA.

FOR FURTHER INFORMATION CONTACT: Georgia A. McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov.

Philip H. Gray, SFIREG Executive Secretary, P.O. Box 1249, Hardwick, VT 05843-1249; telephone number: (802) 472-6956; fax number: (802) 472-6957; e-mail address: aapco@plainfield.bypass.com.

SUPPLEMENTARY INFORMATION:

I. General Information

A. Does this Action Apply to Me?

You may be potentially affected by this action if you are interested in SFIREG information exchange relationship with EPA regarding important issues related to human health, environmental exposure to pesticides, and insight into EPA's decision-making process. All persons are invited and encouraged to attend the meetings and participate as appropriate. Potentially affected entities may include, but are not limited to:

• Those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0096. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

This unit provides the tentative agenda for the meeting.

1. Committee review of WQ/DP issue papers.

a. Response letter to shallow ground water definition.

b. Surface water monitoring support/funding (Minnesota).

2. National Pesticide Surveillance Alliance (NPSA) pilot project presentations (part 1 and part 2).

3. A 2005-2007 cooperative grant guidance presentation and discussion.

4. Label review manual and disposal language issue team report.

5. Registrations review SOP status and handling of CBI.

6. United States Geological Survey (USGS) InterAgency grant update and State cooperative projects.

7. Open forum.

8. Atrazine IRED presentation.

9. State reports and Florida metals investigation report.

10. Endangered species and surface water.

11. Office of Pesticide Programs and the Office of Water risk assessment methods.

12. EPA update/briefing.

a. Office of Pesticide Programs update.

b. Office of Enforcement Compliance Assurance update.

List of Subjects

Environmental protection.

Dated: March 24, 2004.
Jay S. Ellenberger,
Associate Director, Field External Affairs Division, Office of Pesticide Programs.

[FR Doc. 04-7477 Filed 4-6-04; 8:45 am]

BILLING CODE 6560-50-S